DEPARTMENT OF HOUSING AND URBAN DEVELOPMENT

[Docket No. FR-5673-D-01]

Order of Succession for the Office of Housing

AGENCY: Office of the Assistant Secretary for Housing—Federal Housing Commissioner, HUD.

ACTION: Notice of Order of Succession.

SUMMARY: In this notice, the Acting Assistant Secretary for Housing designates the Order of Succession for the Office of Housing. This Order of Succession supersedes all prior Orders of Succession for the Assistant Secretary for Housing, including that published on June 20, 2012 (77 FR 37237).

DATES: Effective Date: December 28, 2012.

FOR FURTHER INFORMATION CONTACT: Laura Marin, Acting General Deputy Assistant Secretary, Office of Housing, Department of Housing and Urban Development, 451 Seventh Street SW., Room 9110, Washington, DC 20410-0500; telephone number 202-402-2689 (this is not a toll-free number). Persons with hearing or speech impairments may call HUD's toll-free Federal Relay Service at 800-877-8339.

SUPPLEMENTARY INFORMATION: The Acting Assistant Secretary for Housing for the Department of Housing and Urban Development is issuing this Order of Succession of officials authorized to perform the functions and duties of the Office of Housing when, by reason of absence, disability, or vacancy in office, the Acting Assistant Secretary is not available to exercise the powers or perform the duties of the office. This Order of Succession is subject to the provisions of the Federal Vacancies Reform Act of 1998 (5 U.S.C. 3345-3349d). This publication supersedes the Order of Succession notice published on June 20, 2012 (77 FR 37237).

Accordingly, the Acting Assistant Secretary for Housing designates the following Order of Succession:

Section A. Order of Succession

Subject to the provisions of the Federal Vacancies Reform Act of 1998, during any period when, by reason of absence, disability, or vacancy in office, the Acting Assistant Secretary for Housing for the Department of Housing and Urban Development is not available to exercise the powers or perform the duties of the Office of the Assistant Secretary for Housing, the following officials within the Office of Housing are hereby designated to exercise the powers and perform the duties of the Acting Assistant Secretary for Housing, including the authority to waive regulations:

(1) General Deputy Assistant Secretary for Housing;

(2) Deputy Assistant Secretary for Single Family Housing;

(3) Deputy Assistant Secretary for Multifamily Housing;

(4) Deputy Assistant Secretary for Housing Counseling;

(5) Associate General Deputy Assistant Secretary for Housing;

(6) Deputy Assistant Secretary for Risk Management and Regulatory Affairs;

(7) Deputy Assistant Secretary for Finance and Budget;

(8) Deputy Assistant Secretary for Operations;

(9) Deputy Assistant Secretary for Healthcare Programs.

These officials shall perform the functions and duties of the office in the order specified herein, and no official shall serve unless all other officials whose position titles precede his/hers in this order are unable to act by reason of absence, disability, or vacancy in office.

Section B. Authority Superseded

This Order of Succession supersedes all prior Orders of Succession for the Assistant Secretary for Housing, including that published on June 20, 2012 (77 FR 37237).

Authority: Section 7(d), Department of Housing and Urban Development Act, 42 U.S.C. 3535(d).

Dated: December 28, 2012.
Carol J. Galante,
Acting Assistant Secretary for Housing-—Federal Housing Commissioner.

[FR Doc. 2012-31628 Filed 1-2-13; 8:45 am]

BILLING CODE 4210-67-P